DEPARTMENT OF THE TREASURY

Office of the Comptroller of the Currency

Submission for OMB Review; Comment Request

AGENCY: Office of the Comptroller of the Currency (OCC), Treasury.

ACTION: Submission for OMB review; comment request.

SUMMARY: The OCC, as part of its continuing effort to reduce paperwork and respondent burden, invites the general public and other Federal agencies to take this opportunity to comment on a continuing information collection, as required by the Paperwork Reduction Act of 1995. The OCC is soliciting comments concerning an extension, without change, of an information collection titled “Community Development Corporations, Community Development Projects, and Other Public Welfare Investments—12 CFR 24.” The OCC also gives notice that it has sent the information collection to OMB for review and approval.

DATES: You should submit your comments to both OCC and the OMB Desk Officer by May 24, 2001.

ADDRESSES: You are invited to submit comments to the Office of the Comptroller of the Currency, 250 E Street, SW, Public Information Room, Mailstop 1-5, Attention: 1557-0194, Washington, DC 20219. In addition, you can send comments by facsimile transmission to (202) 874-4448, or by electronic mail to regs.comments@occ.treas.gov.

A copy of the comments may also be submitted to the OMB Desk Officer, Alexander T. Hunt, Office of Management and Budget, New Executive Office Building, Room 3208, Attention: 1557-0194, Washington, DC 20503.

FOR FURTHER INFORMATION CONTACT: You may request additional information or a copy of the collection and supporting documentation submitted to OMB by contacting Jessie Dunaway, OCC Clearance Officer, or Camille Dixon, (202) 874-5090, Legislative and Regulatory Activities Division, Office of the Comptroller of the Currency, 250 E Street, SW, Washington, DC 20219.

SUPPLEMENTARY INFORMATION: The OCC is proposing to extend OMB approval of the following information collection:

Title: Community Development Corporations, Community Development Projects, and Other Public Welfare Investments—12 CFR 24.

OMB Number: 1557-0194.

Description: This submission covers an existing regulation and involves no change to the regulation or to the information collections embodied in the regulation. This regulation implements 12 U.S.C. 24 (Eleventh) which authorizes national banks to make investments that are designed primarily to promote the public welfare, including the welfare of low- and moderate-income families and communities (such as through the provision of housing, services, or jobs) consistent with safe and sound banking practices. The statute requires the OCC to limit a national bank's investments in any one project as well as its aggregate investments in such projects. This regulation requires national banks to make occasional filings to the OCC regarding self certification notices, letters from certain banks requesting to self-certify, and proposals for investments that require prior OCC approval of public welfare investments.

The OCC is providing national banks with a form by which they make these filings and notify the OCC of investments authorized by 12 U.S.C. 24 (Eleventh). National banks must use this form either to self-certify an investment, pursuant to 12 CFR 24.5(a), or to submit a request for prior OCC approval of an investment, pursuant to 12 CFR 24.4(a) and 24.5(b). The OCC's form simplifies the self-certification and prior approval processes by outlining the rule's requirements and allowing banks to check off most responses. This streamlining of information that national banks must submit to the OCC helps to reduce the time and burden attendant to the rule's notification and approval processes. The OCC intends that this form will encourage banks to increase or enhance their investments under part 24.

A national bank that is not eligible to self-certify investments under 12 CFR 24.2(e), but is at least adequately capitalized and has a composite rating of at least 3 with improving trends under the Uniform Financial Institutions Rating System, may continue to submit a letter to the OCC's Community Development Division requesting the authority to self-certify investments, pursuant to 12 CFR 24.5(a)(4). The bank may also use the OCC's form to request prior OCC approval of its investments.

The information collection requirements in 12 CFR part 24 are located as follows:

Self certification of public welfare investments (12 CFR 24.5(a)): To self-certify an investment, an eligible bank shall submit a letter of self-certification to the OCC, within 10 days after it makes an investment.

Letters from 3-rated banks requesting to self-certify (12 CFR 24.5(a)(4)): A national bank that is not an eligible bank but that is at least adequately capitalized, and has a composite rating of at least 3 with improving trends under the Uniform Financial Institutions Rating System, may submit an letter to the OCC requesting authority to self-certify investments.

Investments requiring prior approval (12 CFR 24.5(b)): If a national bank does not meet the requirements for self-certification set forth in part 24, the bank must submit a proposal to the OCC requesting prior approval for an investment.

Type of Review: Extension of a currently approved collection.

Affected Public: Businesses or other for-profit.

Estimated Number of Respondents: 204.

Estimated Total Annual Responses: 204.

Frequency of Response: On occasion.

Estimated Total Annual Burden: 408 burden hours.

The OCC may not conduct or sponsor, and a respondent is not required to respond to, an information collection unless it displays a currently valid Office of Management and Budget (OMB) control number.

Dated: April 17, 2001.
Karen Solomon,
Director, Legislative & Regulatory Activities Division.

[FR Doc. 01-10020 Filed 4-23-01; 8:45 am]

BILLING CODE 4810-33-P